DEPARTMENT OF DEFENSE

Department of the Army

[Docket ID: USA-2010-0030]

Privacy Act of 1974; System of Records

AGENCY: Department of the Army, DoD.

ACTION: Notice to alter a system of records.

SUMMARY: Department of the Army is to alter a system of records notices in its existing inventory of record systems subject to the Privacy Act of 1974 (5 U.S.C. 552a), as amended.

DATES: This proposed action will be effective without further notice on January 13, 2011 unless comments are received which result in a contrary determination.

ADDRESSES: You may submit comments, identified by docket number and/Regulatory Information Number (RIN) and title, by any of the following methods:

*Federal Rulemaking Portal: http://www.regulations.gov. Follow the instructions for submitting comments.

*Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Department of the Army, Privacy Office, U.S. Army Records Management and Declassification Agency, 7701 Telegraph Road, Casey Building, Suite 144, Alexandria, VA 22325-3905, or Mr. Leroy Jones at (703) 428-6185.

SUPPLEMENTARY INFORMATION: Department of the Army notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on December 2, 2010, to the House Committee on Government Reform, the Senate Committee on Homeland Security and Governmental Affairs, and the Office of Management and Budget (OMB) pursuant to paragraph 4c of Appendix I to OMB Circular No. A-130, ``Federal Agency Responsibilities for Maintaining Records About Individuals,'' February 20, 1996, 61 FR 6427.

Dated: December 2, 2010.
Morgan F. Park,
Alternate OSD Federal Register Liaison Officer, Department of Defense.

A0350-1a TRADOC

System name:

Resident Individual Training Management System (RITMS) (July 25, 2008, 73 FR 43413).

Changes:

* * * * *

Categories of records in the system:

Delete entry and replace with “Name, Social Security Number (SSN), course data to include scheduling, testing, academic, graduation, personnel and attrition data.”

Authority for maintenance of the system:

Delete entry and replace with “10 U.S.C. 3013, Secretary of the Army; Army Regulation 351-1, Individual Military Education and Training; Army Regulation 612-201, Initial Entry/Prior Service Trainee Support; Army Regulation 350-1, Army Training and Leader Development; and E.O. 9397 (SSN), as amended.”

* * * * *

Notification procedure:

Delete entry and replace with “Individuals seeking to determine if whether information about themselves is contained in this system should address written inquiries to the Commander, U.S. Army Training Support Center, 3308 Wilson Avenue, Fort Eustis, VA 23604-5166.

Individual should provide the full name, SSN, and military status or other information verifiable from the record itself and signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system should address written inquiries to the Commander, U.S. Army Training Support Center, 3308 Wilson Avenue, Fort Eustis, VA 23604-5166.

Individual should provide the full name, SSN, and military status or other information verifiable from the record itself.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

A0350-1a TRADOC

System name:

Resident Individual Training Management System (RITMS)

System location:

Headquarters, Training and Doctrine Command (TRADOC); TRADOC Service Schools; and Army Training Centers. Addresses for the above may be obtained from the Commander, U.S. Army Training Center, 3308 Wilson Avenue, Fort Eustis, VA 23604-5166.

Categories of individuals covered by the system:

Military members of the Army, Navy, Marine Corps, and Air Force, and civilians employed by the U.S. Government, and approved foreign military personnel enrolled in a resident course at a U.S. Army service school.

Categories of records in the system:

Name, Social Security Number (SSN), course data to include scheduling, testing, academic, graduation, personnel and attrition data.

Authority for maintenance of the system:

10 U.S.C. 3013, Secretary of the Army; Army Regulation 351-1, Individual Military Education and Training; Army Regulation 612-201, Initial Entry/Prior Service Trainee Support; Army Regulation 350-1, Army Training and Leader Development; and E.O. 9397 (SSN), as amended.

Purpose(s):

To automate those processes associated with the scheduling, management, testing, and tracking of resident student training. This TRADOC standard management system is composed of several subsystems which perform functions for personnel, student load management, academic records management, test creation, scoring and grading, student critique, resource scheduling and utilization, and query.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the Army's compilation of systems of records notices also apply to this system.

Policies and practices for storing, retrieving, accessing, retaining, and disposing of records in the system:

Storage:

Paper printouts and electronic storage media.

Retrievability:

Retrieved by SSN and course/class number.

Safeguards:

Access to system is restricted to authorized personnel only with sign-on and password authorization.

Retention and disposal:

Records are maintained for 40 years then destroyed by erasing from electron media and shreading of paper records. However, records on extension courses are maintained for 3 years in current file area, transferred to the records holding area for 2 years then finally retired to the National Personnel Records Center, 9700 Page Avenue, St. Louis, MO 63132-5100.

System manager(s) and address:

Commander, U.S. Army Training Support Center, Privacy Act Officer, 667 Monroe Avenue, Fort Eustis, VA 26604.

Notification procedure:

Individuals seeking to determine if whether information about themselves is contained in this system should address written inquiries to the Commander, U.S. Army Training Support Center, 3308 Wilson Avenue, Fort Eustis, VA 23604-5166.

Individual should provide the full name, SSN, and military status or other information verifiable from the record itself and signature.

In addition, the requester must provide a notarized statement or an unsworn declaration made in accordance with 28 U.S.C. 1746, in the following format:

If executed outside the United States:

`I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.

Record access procedures:

Individuals seeking access to information about themselves contained in this system should address written inquiries to the Commander, U.S. Army Training Support Center, 3308 Wilson Avenue, Fort Eustis, VA 23604-5166.

Individual should provide the full name, SSN, and military status or other information verifiable from the record itself.

In addition, the requester must provide a notarized statement or an unsworn declaration made in accordance with 28 U.S.C. 1746, in the following format:

If executed outside the United States:

`I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.

Contesting record procedures:

The Army's rules for accessing records, contesting contents and appealing initial agency determinations are contained in Army Regulation 340-21; 32 CFR part 505; or may be obtained from the system manager.

Record source categories:

Information is received from the individual, DoD staff, personnel and training systems, and faculty.

Exemptions claimed for the system:

None.

[FR Doc. 2010-31243 Filed 12-13-10; 8:45 am]

BILLING CODE 5001-06-P